DEPARTMENT OF HEALTH AND HUMAN SERVICES

National Institutes of Health

Center for Scientific Review; Amended Notice of Meeting

Notice is hereby given of a change in the meeting of the Center for Scientific Review Special Emphasis Panel, June 8, 2011, 1 p.m. to June 8, 2011, 3 p.m., National Institutes of Health, 6701 Rockledge Drive, Bethesda, MD 20892 which was published in the Federal Register on May 18, 2011, 76 FR 28793-28794.

The meeting will be held July 11, 2011. The meeting time and location remain the same. The meeting is closed to the public.

Dated: May 20, 2011.
Jennifer S. Spaeth,
Director, Office of Federal Advisory Committee Policy.

[FR Doc. 2011-13079 Filed 5-25-11; 8:45 am]

BILLING CODE 4140-01-P